DEPARTMENT OF TRANSPORTATION

Federal Aviation Administration

14 CFR Parts 11, 21, and 25

[Docket No. FAA-2001-8994; Amdt. Nos. 11-45, 21-77, 25-99]

RIN 2120-AF68

Type Certification Procedures for Changed Products

AGENCY: Federal Aviation Administration, DOT.

ACTION: Final rule; delay of compliance dates.

SUMMARY: The Federal Aviation Administration (FAA) is delaying the compliance date of a final rule that amends the procedural regulations for certifying changes to type certificated products. This delay will allow the FAA to address the complexities of production design changes by developing more guidance ensuring the uniform application of the rule by both FAA and other civil aviation authorities.

DATES: The mandatory compliance dates of the rule amending 14 CFR parts 11, 21, and 25 published at 65 FR 36244, June 7, 2000, are delayed until June 10, 2003.

FOR FURTHER INFORMATION CONTACT: Randall Petersen, Certification Procedures Branch (AIR-110), Aircraft Certification Services, Federal Aviation Administration, 800 Independence Avenue, SW, Washington, DC 20591, telephone (202) 267-9583.

SUPPLEMENTARY INFORMATION:

Background

On June 7, 2000 (65 FR 36244), the type certification procedures for changed products final rule became effective. The FAA established a mandatory compliance date of December 10, 2001, for transport category airplanes and restricted category airplanes that have been certified using transport category standards; and a date of December 9, 2002, for all other category aircraft, engines, and propellers. The rule requires, among other things, that an applicant for a change to a type certificate must show the changed product complies with the certification requirements in effect on the date of application. (14 CFR 21.101(a)). The rule also states the applicant may show the changed product complies with an earlier amendment of a regulation if the Administrator determines the change is “not-significant.” (14 CFR 21.101(b)(1)). Specifically, in determining the appropriate certification basis for each design change requires an assessment against the automatic criteria of “significant” as stated in the rule, coupled with the Administrator's discretionary right to consider the extent of the changes and related revisions to the regulations. (14 CFR 21.101(b)(1)(i) and (ii)).

During the fifteen months since publishing the rule, FAA, Transport Canada Civil Aviation, European Joint Aviation Authorities, and industry developed guidance material in the form of an advisory circular, a draft FAA order, and related training materials. Over the last several months, the aviation industry has questioned the ability to standardize administrative procedures, raising a concern that implementation of the rule may not be uniform among the aviation manufacturing communities, both domestic and international. Based on this concern, FAA wants to ensure the implementation procedures for the rule provide for an equal and balanced application for all manufacturers, both domestic and international, and does not place an undue burden on FAA Aircraft Certification Offices and other civil aviation authorities.

To ensure a uniform application of this rule as it pertains to FAA's determination of “significant” and “not-significant” design changes, FAA is delaying implementing the rule for 18 months, until June 10, 2002, for all categories of aircraft, engines, and propellers. The consistency of implementation will require changes to the current training materials, the current advisory material, and developing harmonized policies and procedures between FAA and other civil aviation authorities. This delay will ensure that FAA and all civil aviation authorities and industry have sufficient guidance material, and the associated training, to implement the provisions of the rule in a consistent, uniform manner.

Since the delay in the mandatory compliance dates of the final rule does not impose any new requirements or any added burden on the regulated public, FAA finds that good cause exists for immediate adoption of the new mandatory compliance date without a 30-day notice.

Issued in Washington, DC, on November 7, 2001.
John J. Hickey,
Director, Aircraft Certification Service.

[FR Doc. 01-28498 Filed 11-13-01; 8:45 am]

BILLING CODE 4910-13-M